DEPARTMENT OF HEALTH AND HUMAN SERVICES

Substance Abuse and Mental Health Services Administration

Center for Substance Abuse Prevention; Notice of Meeting

Pursuant to Public Law 92-463, notice is hereby given of the meeting of the SAMHSA Center for Substance Abuse Prevention (CSAP) National Advisory Council in January 2004.

The meeting will be open portion and will include the CSAP's Director's Report and updates on the Center's programs and on the Faith-Based Summit, and discussions of administrative matters and announcements. If anyone needs special accommodations for persons with disabilities, please notify the contact listed below.

A summary of this meeting, a roster of committee members and substantive program information may be obtained from Ms. Carol Watkins, Executive Secretary, Rockwall II Building, Suite 900, 5600 Fishers Lane, Rockville, Maryland 20857, Telephone: (301) 443-9542. Public comments are welcome. Please communicate with the individual listed below as contact for guidance.

Committee Name: SAMHSA Center for Substance Abuse Prevention National Advisory Council.

Meeting Date and Time: Wednesday, January 28, 2004, 2 p.m.-4 p.m. (Open Session), 5515 Security Lane, Rockwall II, Conference Room I, Rockville, Maryland, 20852, Telephone (301) 443-0365.

FOR FURTHER INFORMATION CONTACT: Carol D. Watkins, Executive Secretary, 5600 Fishers Lane, Rockwall II Building, Suite 900, Rockville, Maryland 20857, Telephone: (301) 443-9542.

Dated: January 14, 2004.
Toian Vaughn,
Executive Secretary/Committee Management Officer, Substance Abuse and Mental Health Services Administration.

[FR Doc. 04-1265 Filed 1-21-04; 8:45 am]

BILLING CODE 4162—20-M